DEPARTMENT OF COMMERCE

National Oceanic and Atmospheric Administration

[I.D. 021301D]

New England Fishery Management Council; Public Meetings

AGENCY: National Marine Fisheries Service (NMFS), National Oceanic and Atmospheric Administration (NOAA), Commerce.

ACTION: Notice of rescheduling and cancellation of public meetings.

SUMMARY: The New England Fishery Management Council (Council) has rescheduled a March meeting of its Skate Oversight Committee and Advisory Panel and changed the location of the meeting, and has cancelled a meeting of its Habitat Oversight Committee.

DATES: The Skate Oversight Committee and Advisory Panel meeting will be held on March 13, 2001, at 9:30 a.m.

ADDRESSES: The meeting will be held at the Radisson Hotel, 35 Governor Winthrop Boulevard, New London, CT 06320; telephone: (860) 443-7000.

FOR FURTHER INFORMATION CONTACT: Paul J. Howard, Executive Director, New England Fishery Management Council (978) 465-0492.

SUPPLEMENTARY INFORMATION: The original notice (66 FR 11001, February 21, 2001) stated that the Skate Oversight meeting would be held on March 6, 2001 at 9:30 a.m. It also stated that the location was the Radisson Airport Hotel in Warwick, RI. The meeting of the Habitat Oversight Committee scheduled for March 7, 2001 at 9:30 a.m. is cancelled.

Special Accommodations

The meeting is physically accessible to people with disabilities. Requests for sign language interpretation or other auxiliary aids should be directed to Paul J. Howard (see ADDRESSES) at least 5 days prior to the meeting dates.

All other previously published information remains unchanged.

Dated: February 27, 2001.
Bruce C. Morehead,
Acting Director, Office of Sustainable Fisheries, National Marine Fisheries Service.

[FR Doc. 01-5149 Filed 3-1-01; 8:45 am]

BILLING CODE 3510-22-S